DEPARTMENT OF TRANSPORTATION

Federal Highway Administration

Environmental Impact Statement: Bartow, Cherokee and Forsyth Counties, GA

AGENCY: Federal Highway Administration (FHWA), Georgia Department of Transportation (GDOT).

ACTION: Notice of recision of the Notice of Intent.

SUMMARY: The FHWA is issuing this notice of recision to advise the public that preparation of an environmental impact statement for the Northern Arc, a proposed west-east connector between U.S. 411 in Bartow County, Georgia and S.R. 400 in Forsyth County, Georgia has been terminated. This is a formal recision of the Notice of Intent that was published in the Federal Register on September 18, 2000.

FOR INFORMATION CONTACT: Jennifer Giersch, Environmental Coordinator, Federal Highway Administration, 61 Forsyth Street, SW., Suite 17T100, Atlanta, GA 30303-3104, Telephone (404) 562-3653 and/or Mr. Harvey Keepler, State Environmental/Location Engineer, Georgia Department of Transportation, Office of Environmental/Location, 3993 Aviation Circle, Atlanta, Georgia 30336, Telephone (404) 699-4400.

SUPPLEMENTARY INFORMATION: The FHWA in cooperation with the GDOT, will not prepare an EIS for a proposal to construct a four-lane, limited access highway located between U.S. 411 in Bartow County and S.R. 400 in Forsyth County, Georgia. The State of Georgia has withdrawn the proposal to construct the 50-mile long project.

(Catalog of Federal Domestic Assistance Program Number 20.205, Highway Research, Planning and Construction. Georgia's approved clearinghouse review procedures apply to this program.)

Issued on: September 25, 2003.
Jennifer Giersch,
Environmental Coordinator, Atlanta, Georgia.

[FR Doc. 03-27964 Filed 11-5-03; 8:45 am]

BILLING CODE 4910-22-M